DEPARTMENT OF ENERGY

Notice of Availability of the Environmental Assessment Supporting the Department of Energy's Application to the Department of the Interior for a Public Land Order To Withdraw Public Lands Within and Around the Caliente Rail Corridor, Nevada, From Surface Entry and New Mining Claims

AGENCY: Office of Civilian Radioactive Waste Management, U.S. Department of Energy.

ACTION: Notice of availability.

SUMMARY: This notice announces the availability, and opportunity for public review and comment, of the environmental assessment (EA) that supports the Department of Energy's (DOE) application to the Department of the Interior, filed with the Bureau of Land Management (BLM), for a Public Land Order to withdraw public lands within and surrounding the Caliente Rail Corridor. As applied for, the withdrawal would preclude surface entry and new mining claim locations for a 20 year period.

DATES: Comments should be received by DOE no later than September 28, 2005.

ADDRESSES: Comments, or requests for copies of the draft EA, should be sent to Lee Bishop, EA Document Manager, United States Department of Energy, 1551 Hillshire Drive, Las Vegas, NV 89134. Requests for copies of the draft EA may also be made by calling 1-800-225-6972. The draft EA and electronic comment forms are available at http://www.ocrwm.doe.gov. Comments may also be faxed to 1-800-967-0739.

FOR FURTHER INFORMATION CONTACT: Lee Bishop, EA Document Manager, at the address above or at 1-800-225-6972.

SUPPLEMENTARY INFORMATION: A notice of proposed withdrawal was published in the Federal Register on December 29, 2003 (68 FR 74965-74968), stating that the Bureau of Land Management had received an application from DOE to withdraw for 20 years approximately 308,600 acres of public land from surface entry and mining locations while DOE evaluates the land for the potential construction, operation, and maintenance of a branch rail line. The rail line would be used for the transportation of spent nuclear fuel and high-level radioactive waste as provided under the Nuclear Waste Policy Act of 1982, as amended (42 U.S.C. 10101 et seq.). BLM held public meetings on the application in June 2004.

In accordance with 43 CFR 2310.3-2(b)(3), DOE has prepared a draft EA to support its application, with the BLM participating as a cooperating agency. The application seeks a Public Land Order for the purpose of precluding surface entry and the location of new mining claims which could interfere with the evaluation of the land. The proposed Public Land Order would not affect existing mining claims or other activities such as grazing rights, water rights, and recreational uses.

The draft EA may be reviewed on the Internet at http://www.ocrwm.doe.gov. Copies of the EA may also be obtained by contacting Mr. Lee Bishop (see address above). Comments may be submitted to Mr. Bishop or through the comment form at the above website, and should be received by September 28, 2005.

Three public meetings on the draft EA will be held as follows:

Monday, September 12, 2005, 4 p.m. to 8 p.m., Longstreet Inn & Casino, Highway 373, Amargosa Valley, NV;

Tuesday, September 13, 2005, 4 p.m. to 8 p.m., Goldfield School Gymnasium, 233 Ramsey, Goldfield, NV; and

Thursday, September 15, 2005, 4 p.m. to 8 p.m., Caliente Youth Center, U.S. Highway 93, Caliente, NV.

Comments received will be considered in finalizing the EA. After the EA is finalized it will be formally submitted to the BLM. The BLM will subsequently make a recommendation to the Secretary of the Interior, who will make a final determination regarding DOE's application for a Public Land Order.

Issued in Washington, DC.
Paul M. Golan,
Principal Deputy Director, Office of Civilian Radioactive Waste Management.

[FR Doc. 05-17143 Filed 8-26-05; 8:45 am]

BILLING CODE 6450-01-P